DEPARTMENT OF COMMERCE

International Trade Administration

[A-122-822]

Notice of Rescission, in Part, of Antidumping Duty Administrative Review: Corrosion-Resistant Carbon Steel Flat Products From Canada

AGENCY: Import Administration, International Trade Administration, Department of Commerce.

SUMMARY: On September 30, 2003, the Department published the initiation of administrative review of the antidumping duty order on corrosion-resistant carbon steel flat products from Canada, covering the period August 1, 2002, through July 31, 2003. See Initiation of Antidumping and Countervailing Duty Administrative Reviews, Request for Revocation and Deferral of Administrative Reviews (68 FR 56262) (Initiation). This administrative review was initiated on the following exporters: Continuous Color Coat, Ltd. (CCC), Dofasco Inc. (Dofasco), Ideal Roofing Company, Ltd. (Ideal Roofing), Impact Steel Canada, Ltd. (Impact Steel), Russel Metals Export (Russel Metals), Sorevco and Company, Ltd. (Sorevco), and Stelco Inc. (Stelco). For the reasons discussed below, we are rescinding the administrative review of Russel Metals.

EFFECTIVE DATE: March 30, 2004.

FOR FURTHER INFORMATION CONTACT: Addilyn Chams-Eddine or Dana Mermelstein at (202) 482-0648 and (202) 482-1391, respectively; Office of AD/CVD Enforcement VII, Import Administration, International Trade Administration, U.S. Department of Commerce, 14th Street and Constitution Avenue, NW, Washington, DC 20230.

SUPPLEMENTARY INFORMATION:

Background

On September 30, 2003, the Department published the initiation of administrative review of CCC, Dofasco, Ideal Roofing, Impact Steel, Russel Metals, Sorevco, and Stelco, covering the period August 1, 2002, through July 31, 2003. See Initiation. On December 19, 2003 we rescinded the review of CCC, Ideal Roofing and Impact Steel. See 68 FR 70764. On December 24, 2003, Russel Metals timely withdrew its request for an administrative review. The request was the only request for an administrative review of Russel Metals. See Memorandum For the File from Dana S. Mermelstein: Corrosion Resistant Carbon Steel Flat Products from Canada: Russel Metals Withdrawal of Request for Review, dated January 12, 2004, and on file in the Central Records Unit (CRU) located in room B-099 of the Main Commerce Building.

Rescission, in Part, of the Administrative Review

Pursuant to the Department's regulations, the Department will rescind an administrative review “if a party that requested the review withdraws the request within 90 days of the date of publication of notice of initiation of the requested review.” See 19 CFR 351.213(d)(1). Since Russel Metals submitted a timely withdrawal of its request for review, and since this was the only request for a review of Russel Metals, the Department is rescinding its antidumping administrative review of Russel Metals in accordance with 19 CFR 351.213(d)(1). Based on this rescission, the administrative review of the antidumping duty order on corrosion-resistant carbon steel flat products from Canada covering the period August 1, 2002, through July 31, 2003, now covers the following companies: Dofasco, Sorevco, and Stelco.

We are issuing and publishing this determination and notice in accordance with section 777(i) of the Act and 19 CFR 351.213(d)(4).

Dated: March 23, 2004.
James J. Jochum,
Assistant Secretary for Import Administration.

[FR Doc. 04-7094 Filed 3-29-04; 8:45 am]

BILLING CODE 3510-DS-P